DEPARTMENT OF AGRICULTURE

Forest Service

Allegheny Resource Advisory Committee

AGENCY: Forest Service, USDA.

ACTION: Notice of meeting.

SUMMARY: The Allegheny Resource Advisory Committee (RAC) will meet in Warren, Pennsylvania. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://www.fs.usda.gov/detail/allegheny/workingtogether/advisorycommittees/?cid=fseprd497392.

DATES: Three meeting dates are set for 2020: February 21, February 28 and March 26, 2020. All RAC meetings are subject to cancellation. For status of the meeting prior to attendance, please contact the person listed under For Further Information Contact.

ADDRESSES: The meeting will be held at the Allegheny National Forest's Supervisors Office, 4 Farm Colony Drive, Warren, PA 16365.

Written comments may be submitted as described under Supplementary Information. All comments, including names and addresses when provided, are placed in the record and are available for public inspection and copying. The public may inspect comments received at the Allegheny National Forest's Supervisors Office. Please call ahead at 814-723-5150 to facilitate entry into the building.

FOR FURTHER INFORMATION CONTACT: Richard Hatfield, Designated Federal Officer, by phone at 814-363-6098 or via email at richard.hatfield@usda.gov. Individuals who use telecommunication devices for the deaf (TDD) may call the Federal Information Relay Service (FIRS) at 1-800-877-8339 between 8:00 a.m. and 8:00 p.m., Eastern Standard Time, Monday through Friday.

SUPPLEMENTARY INFORMATION: The purpose of the meetings are to:

1. Review current RAC membership and terms;

2. Update the status of new members; and

3. Discuss, recommend, and approve new Title II projects.

The meeting is open to the public. The agenda will include time for people to make oral statements of three minutes or less. Individuals wishing to make an oral statement should request in writing by Friday, February 14, 2020, to be scheduled on the agenda. Anyone who would like to bring related matters to the attention of the committee may file written statements with the committee staff before or after the meeting. Written comments and requests for time for oral comments must be sent to Richard Hatfield, Designated Federal Officer, 29 Forest Service Drive, Bradford, PA 16701 or by email to richard.hatfield@usda.gov.

Meeting Accommodations: If you are a person requiring reasonable accommodation, please make requests in advance for sign language interpreting, assistive listening devices, or other reasonable accommodation. For access to the facility or proceedings, please contact the person listed in the section titled For Further Information Contact.

All reasonable accommodation requests are managed on a case by case basis.

Dated: January 8, 2020.
Cikena Reid,
USDA Committee Management Officer.

[FR Doc. 2020-00455 Filed 1-14-20; 8:45 am]

BILLING CODE 3411-15-P